DEPARTMENT OF HOMELAND SECURITY

Federal Emergency Management Agency

[Docket ID FEMA-2015-0001]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of July 16, 2015, which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: May 2, 2015.
Roy E. Wright,
Deputy Associate Administrator for Mitigation, Department of Homeland Security, Federal Emergency Management Agency.

I. Watershed-based studies:

Community | Community map repository address
Narragansett HUC8 Watershed
Bristol County, Massachusetts (All Jurisdictions)
Docket No.: FEMA-B-1415
City of Attleboro | City Hall, 77 Park Street, Attleboro, MA 02703.
City of Taunton | City Hall, 15 Summer Street, Taunton, MA 02780.
Town of Acushnet | Town Hall, 122 Main Street, Acushnet, MA 02743.
Town of Berkley | Town Hall, One North Main Street, Berkley, MA 02779.
Town of Dighton | Town Hall, 979 Somerset Avenue, Dighton, MA 02715.
Town of Freetown | Town Hall, Three North Main Street, Assonet, MA 02702.
Town of Mansfield | Town Hall, Six Park Row, Mansfield, MA 02048.
Town of North Attleborough | Town Hall, 43 South Washington Street, North Attleborough, MA 02760.
Town of Norton | Town Hall, 70 East Main Street, Norton, MA 02766.
Town of Raynham | Town Hall, 558 South Main Street, Raynham, MA 02767.
Town of Seekonk | Town Hall, 100 Peck Street, Seekonk, MA 02771.
Norfolk County, Massachusetts (All Jurisdictions)
Docket No.: FEMA-B-1415
Town of Foxborough | Town Hall, 40 South Street, Foxborough, MA 02035.
Town of Plainville | Town Hall, 142 South Street, Plainville, MA 02762.
Plymouth County, Massachusetts (All Jurisdictions)
Docket No.: FEMA-B-1415
Town of Bridgewater | Memorial Building, 151 High Street, Bridgewater, MA 02324.
Town of East Bridgewater | Town Hall, 175 Central Street, East Bridgewater, MA 02333.
Town of Halifax | Town Hall, 499 Plymouth Street, Halifax, MA 02338.
Town of Lakeville | Town Hall, 364 Bedford Street, Lakeville, MA 02347.
Town of Middleborough | Town Hall Annex, 20 Centre Street, Middleborough, MA 02346.
Town of Rochester | Town Hall Annex, 37 Marion Way, Rochester, MA 02770.

II. Non-watershed-based studies:

Community | Community map repository address
San Mateo County, California, and Incorporated Areas
Docket No.: FEMA-B-1413
City of Belmont | City Hall, One Twin Pines Lane, Belmont, CA 94002.
City of Foster City | City Hall, 610 Foster City Boulevard, Foster City, CA 94404.
City of Redwood City | City Hall, 1017 Middlefield Road, Redwood City, CA 94063.
City of San Mateo | City Hall, 330 West 20th Avenue, San Mateo, CA 94403.
Okeechobee County, Florida, and Incorporated Areas
Docket No.: FEMA-B-1351
City of Okeechobee | City Hall, Clerk's Office, 55 Southeast 3rd Avenue, Room 100, Okeechobee, FL 34974.
Unincorporated Areas of Okeechobee County | Okeechobee County Department of Community Development, 1700 Northwest 9th Avenue, Suite A, Okeechobee, FL 34972.
Leavenworth County, Kansas, and Incorporated Areas
Docket No.: FEMA-B-1410
City of Bashor | City Hall, 2620 North 155th Street, Basehor, KS 66007.
City of Easton | City Hall, 300 West Riley Street, Easton, KS 66020.
City of Lansing | City Hall Annex, 730 First Terrace, Suite 3, Lansing, KS 66043.
City of Leavenworth | City Hall, 100 North 5th Street, Leavenworth, KS 66048.
City of Linwood | City Hall, 306 Main Street, Linwood, KS 66052.
City of Tonganoxie | City Hall, 321 South Delaware Street, Tonganoxie, KS 66086.
Unincorporated Areas of Leavenworth County | County Courthouse, 300 Walnut Street, Leavenworth, KS 66048.
Lincoln County, Maine (All Jurisdictions)
Docket No.: FEMA-B-1415
Bar Island | Land Use Planning Commission, Maine Department of Agriculture, Conservation and Forestry, 18 Elkins Lane/Harlow Building, 4th Floor, State House Station 22, Augusta, ME 04333.
Haddock Island | Land Use Planning Commission, Maine Department of Agriculture, Conservation and Forestry, 18 Elkins Lane/Harlow Building, 4th Floor, State House Station 22, Augusta, ME 04333.
Hungry Island | Land Use Planning Commission, Maine Department of Agriculture, Conservation and Forestry, 18 Elkins Lane/Harlow Building, 4th Floor, State House Station 22, Augusta, ME 04333.
Indian Island | Land Use Planning Commission, Maine Department of Agriculture, Conservation and Forestry, 18 Elkins Lane/Harlow Building, 4th Floor, State House Station 22, Augusta, ME 04333.
Jones Garden Island | Land Use Planning Commission, Maine Department of Agriculture, Conservation and Forestry, 18 Elkins Lane/Harlow Building, 4th Floor, State House Station 22, Augusta, ME 04333.
Killick Stone Island | Land Use Planning Commission, Maine Department of Agriculture, Conservation and Forestry, 18 Elkins Lane/Harlow Building, 4th Floor, State House Station 22, Augusta, ME 04333.
Louds Island | Land Use Planning Commission, Maine Department of Agriculture, Conservation and Forestry, 18 Elkins Lane/Harlow Building, 4th Floor, State House Station 22, Augusta, ME 04333.
Marsh Island | Land Use Planning Commission, Maine Department of Agriculture, Conservation and Forestry, 18 Elkins Lane/Harlow Building, 4th Floor, State House Station 22, Augusta, ME 04333.
Monhegan Plantation | Land Use Planning Commission, Maine Department of Agriculture, Conservation and Forestry, 18 Elkins Lane/Harlow Building, 4th Floor, State House Station 22, Augusta, ME 04333.
Polins Ledges Island | Land Use Planning Commission, Maine Department of Agriculture, Conservation and Forestry, 18 Elkins Lane/Harlow Building, 4th Floor, State House Station 22, Augusta, ME 04333.
Ross Island | Land Use Planning Commission, Maine Department of Agriculture, Conservation and Forestry, 18 Elkins Lane/Harlow Building, 4th Floor, State House Station 22, Augusta, ME 04333.
Thief Island | Land Use Planning Commission, Maine Department of Agriculture, Conservation and Forestry, 18 Elkins Lane/Harlow Building, 4th Floor, State House Station 22, Augusta, ME 04333.
Thrumcap Island | Land Use Planning Commission, Maine Department of Agriculture, Conservation and Forestry, 18 Elkins Lane/Harlow Building, 4th Floor, State House Station 22, Augusta, ME 04333.
Town of Alna | Town Hall, 1568 Alna Road, Alna, ME 04535.
Town of Boothbay | Town Hall, 1011 Wiscasset Road, Boothbay, ME 04537.
Town of Boothbay Harbor | Town Hall, 11 Howard Street, Boothbay Harbor, ME 04538.
Town of Bremen | Town Hall, 208 Waldoboro Road, Bremen, ME 04551.
Town of Bristol | Town Hall, 1268 Bristol Road, (State Route 130), Bristol, ME 04539.
Town of Damariscotta | Town Hall, 21 School Street, Damariscotta, ME 04543.
Town of Dresden | Town Hall, 534 Gardner Road, Dresden, ME 04342.
Town of Edgecomb | Town Hall, 16 Town Hall Road, Edgecomb, ME 04556.
Town of Jefferson | Town Hall, 58 Washington Road, Jefferson, ME 04348.
Town of Newcastle | Town Hall, Four Pump Street, Newcastle, ME 04553.
Town of Nobleboro | Town Hall, 192 US Highway One, Nobleboro, ME 04555.
Town of Somerville | Town Hall, 72 Sand Hill Road, Somerville, ME 04348.
Town of South Bristol | South Bristol Town Hall, 470 Clarks Cove Road, Walepole, ME 04573.
Town of Southport | Town Hall, 361 Hendricks Hill Road, Southport, ME 04576.
Town of Waldoboro | Town Hall, 1600 Atlantic Highway, Walsoboro, ME 04572.
Town of Westport Island | Town Hall, Six Fowles Point Road, Westport Island, ME 04578.
Town of Whitefield | Town Hall, 36 Town House Road, Whitefield, ME 04353.
Town of Wiscasset | Town Hall, 51 Bath Road, Wiscasset, ME 04578.
Township of Hibberts Gore | Land Use Planning Commission, Maine Department of Agriculture, Conservation and Forestry, 18 Elkins Lane/Harlow Building, 4th Floor, State House Station 22, Augusta, ME 04333.
Webber Dry Ledge Island | Land Use Planning Commission, Maine Department of Agriculture, Conservation and Forestry, 18 Elkins Lane/Harlow Building, 4th Floor, State House Station 22, Augusta, ME 04333.
Western Egg Rock Island | Land Use Planning Commission, Maine Department of Agriculture, Conservation and Forestry, 18 Elkins Lane/Harlow Building, 4th Floor, State House Station 22, Augusta, ME 04333.
Wreck Island | Land Use Planning Commission, Maine Department of Agriculture, Conservation and Forestry, 18 Elkins Lane/Harlow Building, 4th Floor, State House Station 22, Augusta, ME 04333.
Wreck Island Ledge | Land Use Planning Commission, Maine Department of Agriculture, Conservation and Forestry, 18 Elkins Lane/Harlow Building, 4th Floor, State House Station 22, Augusta, ME 04333.
Sagadahoc County, Maine (All Jurisdictions)
Docket No.: FEMA-B-1415
City of Bath | City Hall, 55 Front Street, Bath, ME 04530.
Town of Arrowsic | Town Hall, 340 Arrowsic Road, Arrowsic, ME 04530.
Town of Bowdoin | Town Hall, 23 Cornish Drive, Bowdoin, ME 04287.
Town of Bowdoinham | Town Hall, 13 School Street, Bowdoinham, ME 04008.
Town of Georgetown | Town Hall, 50 Bay Point Road, Georgetown, ME 04548.
Town of Phippsburg | Town Hall, 1042 Main Road, Phippsburg, ME 04562.
Town of Richmond | Town Hall, 26 Gardner Street, Richmond, ME 04357.
Town of Topsham | Town Hall, 100 Main Street, Topsham, ME 04086.
Town of West Bath | Town Hall, 219 Fosters Point Road, West Bath, ME 04530.
Town of Woolwich | Town Hall, 13 Nequasset Road, Woolwich, ME 04579.
Township of Perkins | Land Use Planning Commission, Maine Department of Agriculture, Conservation and Forestry, 18 Elkins Lane/Harlow Building, 4th Floor, State House Station 22, Augusta, ME 04333.

[FR Doc. 2015-13964 Filed 6-5-15; 8:45 am]

BILLING CODE 9110-12-P